NATIONAL SCIENCE FOUNDATION

Notice of Intent To Seek Approval To Extend an Information Collection

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 65 FR 1182 (January 7, 2000), and no comments were received. NSF is forwarding the proposed renewal submission to the Office of Management and Budget (OMB) for clearance simultaneously with the publication of this second notice.

COMMENTS: Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques for other forms of information technology should be addressed to: Office of Information and Regulatory Affairs of OMB, Attention: Desk Officer for National Science Foundation, 725—17th Street, NW, Room 10235, Washington, DC 20503, and to Suzanne H. Plimpton, Reports Clearance Officer, National Science Foundation, 4201 Wilson Boulevard, Suite 295, Arlington, Virginia 22230 or send e-mail to splimpto@nsf.gov.

DATES: Comments regarding these information collections are best assured of having their full effect if received on or before April 5, 2000. Copies of the submission(s) may be obtained at 703-306-1125 X 2017.

FOR FURTHER INFORMATION CONTACT: Suzanne H. Plimpton, NSF Reports Clearance Officer at (703) 306-1125 X 2017 or send email to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION:

Title of Collection: Survey of Earned Doctorates.

OMB Approval Number: 3145-0019.

Proposed Project: The Survey of Earned Doctorates has been conducted continuously since 1958 and is jointly sponsored by five Federal agencies in order to avoid duplication. It is an accurate, timely source of information on our Nation's most precious resource—highly educated individuals. Data is obtained from each person earning a research doctorate on their field of speciality, educational background, sources of support in graduate school, postgraduation plans for employment, and demographic characteristics. The information is used extensively by the Federal government, universities, and others. The National Science Foundation, as the lead agency, publishes statistics from the survey in many reports, but primarily in the manual publication series “Science and Engineering Doctorates” (available in print and electronically on the World Wide Web). The National Opinion Research Corporation, U. of Chicago, also disseminates a free report entitled “Doctorate Recipients from U.S. Universities: Summary Report 1998.”

A total response rate of 92% of the total 42,683 persons who earned a research doctorate was obtained in fiscal year 1998.

Estimate of Burden

The Foundation estimates that, on average, 20 minutes per respondent will be required to complete the survey, for a total of 14,228 hours for all respondents.

Respondents: Individuals.

Estimated Number of Responses: 42,683 (FY 1998 number)

Estimated Total Annual Burden on Respondents: 14,228 hours total (FY 1998 number).

March 1, 2000.
Suzanne H. Plimpton,
NSF Reports Clearance Officer.

[FR Doc. 00-5347 Filed 3-3-00; 8:45 am]

BILLING CODE 7555-01-M